DEPARTMENT OF ENERGY

Federal Energy Regulatory Commission

Combined Notice of Filings #1

Take notice that the Commission received the following electric rate filings:

Docket Numbers: ER19-1634-006; ER10-2196-011; ER13-1141-009; ER13-1142-009; ER13-1143-012; ER13-1144-012; ER17-1849-010; ER19-1009-005; ER19-1633-006; ER19-1638-006; ER20-844-007; ER20-2452-012; ER20-2453-013.

Applicants: Hamilton Patriot LLC, Hamilton Liberty LLC, Hamilton Projects Acquiror, LLC, Tiverton Power LLC, Rumford Power LLC, Revere Power, LLC, Nautilus Power, LLC, Essential Power Rock Springs, LLC, Essential Power OPP, LLC, Essential Power Newington, LLC, Essential Power Massachusetts, LLC, Lakewood Cogeneration Limited Partnership, Bridgeport Energy LLC.

Description: Notice of Non-Material Change in Status of Bridgeport Energy LLC, et al.

Filed Date: 10/31/25.

Accession Number: 20251031-5410.

Comment Date: 5 p.m. ET 11/21/25.

Docket Numbers: ER25-3271-002.

Applicants: Desert Sands Energy Storage I, LLC.

Description: Tariff Amendment: Amendment 2 to Desert Sands Energy Storage I MBR Application to be effective 10/27/2025.

Filed Date: 11/5/25.

Accession Number: 20251105-5132.

Comment Date: 5 p.m. ET 11/26/25.

Docket Numbers: ER25-3327-000.

Applicants: JERA Americas Energy Services LLC.

Description: Supplement to 08/28/2025, JERA Americas Energy Services LLC tariff filing.

Filed Date: 11/4/25.

Accession Number: 20251104-5156.

Comment Date: 5 p.m. ET 11/25/25.

Docket Numbers: ER26-428-000.

Applicants: Priority Power Management LLC.

Description: Initial Rate Filing: Application for Market-Based Rate Authority—Priority Power Management LLC to be effective 1/5/2026.

Filed Date: 11/5/25.

Accession Number: 20251105-5051.

Comment Date: 5 p.m. ET 11/26/25.

Docket Numbers: ER26-429-000.

Applicants: Tri-State Generation and Transmission Association, Inc.

Description: 205(d) Rate Filing: Amendment to Service Agreement FERC No. 901 to be effective 10/9/2025.

Filed Date: 11/5/25.

Accession Number: 20251105-5082.

Comment Date: 5 p.m. ET 11/26/25.

Docket Numbers: ER26-430-000.

Applicants: Calpine Energy Solutions, LLC.

Description: Request for Limited Waiver and Request for Expedited Action and Shortened Comment Period of Calpine Energy Solutions, LLC.

Filed Date: 11/4/25.

Accession Number: 20251104-5165.

Comment Date: 5 p.m. ET 11/14/25.

Docket Numbers: ER26-431-000.

Applicants: Arizona Public Service Company.

Description: 205(d) Rate Filing: Service Agreement No. 439, E&P Agreement w/Longroad Development Company, LLC to be effective 10/14/2025.

Filed Date: 11/5/25.

Accession Number: 20251105-5087.

Comment Date: 5 p.m. ET 11/26/25.

Docket Numbers: ER26-432-000.

Applicants: MRP Elgin LLC.

Description: Compliance filing: Compliance to 428—cancellation to be effective 10/30/2025.

Filed Date: 11/5/25.

Accession Number: 20251105-5134.

Comment Date: 5 p.m. ET 11/26/25.

Docket Numbers: ER26-433-000.

Applicants: MRP Rocky Road LLC.

Description: Compliance filing: Compliance to 429 to be effective 10/30/2025.

Filed Date: 11/5/25.

Accession Number: 20251105-5139.

Comment Date: 5 p.m. ET 11/26/25.

Take notice that the Commission received the following public utility holding company filings:

Docket Numbers: PH26-1-000.

Applicants: Canada Pension Plan Investment Board.

Description: Canada Pension Plan Investment Board submits FERC 65-B Notice of Change in Fact to Waiver Notification.

Filed Date: 11/3/25.

Accession Number: 20251103-5305.

Comment Date: 5 p.m. ET 11/24/25.

Take notice that the Commission received the following electric reliability filings:

Docket Numbers: RD26-1-000.

Applicants: North American Electric Reliability Corporation.

Description: Petition of the North American Electric Reliability Corporation for Approval of Proposed Reliability Standards MOD-032-2, IRO-010-6, and TOP-003-8.

Filed Date: 11/4/25.

Accession Number: 20251104-5162.

Comment Date: 5 p.m. ET 12/8/25.

Docket Numbers: RD26-2-000.

Applicants: North American Electric Reliability Corporation.

Description: Petition of the North American Electric Reliability Corporation for Approval of Proposed Reliability Standard MOD-033-3.

Filed Date: 11/4/25.

Accession Number: 20251104-5163.

Comment Date: 5 p.m. ET 12/8/25.

Docket Numbers: RD26-3-000.

Applicants: North American Electric Reliability Corporation.

Description: Petition of the North American Electric Reliability Corporation for Approval of Proposed Reliability Standard MOD-026-2.

Filed Date: 11/4/25.

Accession Number: 20251104-5164.

Comment Date: 5 p.m. ET 12/8/25.

The filings are accessible in the Commission's eLibrary system (https://elibrary.ferc.gov/idmws/search/fercgensearch.asp) by querying the docket number. Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659. The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: November 5, 2025.
Carlos D. Clay,
Deputy Secretary.

[FR Doc. 2025-20860 Filed 11-24-25; 8:45 am]

BILLING CODE 6717-01-P